CONSUMER PRODUCT SAFETY COMMISSION

[CPSC Docket No. 18-1]

Notice of Prehearing Conference

AGENCY: Consumer Product Safety Commission.

ACTION: Notice.

SUMMARY: Notice of prehearing conference for In the Matter of Britax Child Safety, Inc.; CPSC Docket No.18-1.

DATES: Thursday, May 3, 2018 at 10 a.m. Eastern Time.

ADDRESSES: Members of the public are welcome to attend the prehearing conference, to be held in: Hearing Room 2, U.S. Securities and Exchange Commission, 100 F Street NE, Washington, DC 20549.

FOR FURTHER INFORMATION CONTACT: Benjamin Ristau, Attorney-Adviser, Office of Administrative Law Judges, U.S. Securities and Exchange Commission, 202-551-5201.

SUPPLEMENTARY INFORMATION: The text of the Presiding Officer's April 20, 2018 Order Scheduling Prehearing Conference appears below.

Authority: Consumer Product Safety Act, 15 U.S.C. 2064.

Alberta E. Mills,
Secretary, Consumer Product Safety Commission.

United States of America Consumer Product Safety Commission

In the Matter of Britax Child Safety, Inc., CPSC Docket No. 18-1

April 20, 2018

Order Scheduling Prehearing Conference

This proceeding commenced with the filing of a complaint on February 16, 2018. The complaint was published in the Federal Register on February 27, 2018. 83 FR 8457. On April 19, 2018, the Chairman of the Consumer Product Safety Commission appointed me as the presiding officer for this proceeding.

Under 16 CFR 1025.21, an initial prehearing conference shall be held within fifty days of the publication of the complaint in the Federal Register unless “unusual circumstances would render it impractical or valueless” to do so. Due to the timing of my appointment, holding a prehearing conference within fifty days of publication is impossible, and therefore impractical. An in-person prehearing conference shall be held as follows:

Date: Thursday, May 3, 2018.

Time: 10:00 a.m. Eastern Time.

Location: Hearing Room 2, U.S. Securities and Exchange Commission, 100 F Street NE, Washington, DC 20549.

In accordance with 16 CFR 1025.21(b), the issues to be addressed at the conference are the items numbered (1) through (14) in 16 CFR 1025.21(a). If the time or location of the conference is infeasible for any party, that party should promptly file a motion for a continuance. I direct that notice of this conference and a statement of the issues to be discussed shall be published in the Federal Register at least ten days in advance of the scheduled date. 16 CFR 1025.21(b).

A ruling on the parties' joint motion for a protective order will be forthcoming.

By: Cameron Elliot

Administrative Law Judge

[FR Doc. 2018-08841 Filed 4-26-18; 8:45 am]

BILLING CODE 6355-01-P